DEPARTMENT OF THE INTERIOR

National Park Service

[NPS-WASO-NAGPRA-NPS0024298; PPWOCRADN0-PCU00RP14.R50000]

Notice of Inventory Completion: Office of the State Archaeologist, University of Iowa, Iowa City, IA

AGENCY: National Park Service, Interior.

ACTION: Notice.

SUMMARY: The Office of the State Archaeologist Bioarchaeology Program, previously listed as the Office of the State Archaeologist Burials Program, has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Office of the State Archaeologist Bioarchaeology Program. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Office of the State Archaeologist Bioarchaeology Program at the address in this notice by March 1, 2018.

ADDRESSES: Dr. Lara Noldner, Office of the State Archaeologist Bioarchaeology Program, University of Iowa, 700 S Clinton Street, Iowa City, IA 52242, telephone (319) 384-0740, email lara-noldner@uiowa.edu.

SUPPLEMENTARY INFORMATION: Notice is here given in accordance with the Native American Graves Protection and Repatriation Act (NAGPRA), 25 U.S.C. 3003, of the completion of an inventory of human remains under the control of the Office of the State Archaeologist Bioarchaeology Program, Iowa City, IA. The human remains were removed from Grant and Richland Counties, WI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Office of the State Archaeologist Bioarchaeology Program professional staff in consultation with representatives of the Bad River Band of the Lake Superior Tribe of Chippewa Indians of the Bad River Reservation, Wisconsin; Citizen Potawatomi Nation, Oklahoma; Flandreau Santee Sioux Tribe of South Dakota; Forest County Potawatomi Community, Wisconsin; Hannahville Indian Community, Michigan; Ho-Chunk Nation of Wisconsin; Keweenaw Bay Indian Community, Michigan; Lac Courte Oreilles Band of Lake Superior Chippewa Indians of Wisconsin; Lac du Flambeau Band of Lake Superior Chippewa Indians of the Lac du Flambeau Reservation of Wisconsin; Lower Sioux Indian Community in the State of Minnesota; Menominee Indian Tribe of Wisconsin; Minnesota Chippewa Tribe, Minnesota (Six component reservations: Bois Forte Band (Nett Lake), Fond du Lac Band, Grand Portage Band, Leech Lake Band, Mille Lacs Band, White Earth Band); Prairie Band Potawatomi Nation (previously listed as the Prairie Band of Potawatomi Nation, Kansas); Prairie Island Indian Community in the State of Minnesota; Red Cliff Band of Lake Superior Chippewa Indians of Wisconsin; Sac & Fox Nation of Missouri in Kansas and Nebraska; Sac & Fox Nation, Oklahoma; Sac & Fox Tribe of the Mississippi in Iowa; Santee Sioux Nation, Nebraska; Sisseton-Wahpeton Oyate of the Lake Traverse Reservation, South Dakota; Sokaogon Chippewa Community, Wisconsin; Spirit Lake Tribe, North Dakota; St. Croix Chippewa Indians of Wisconsin; Stockbridge Munsee Community, Wisconsin; Upper Sioux Community, Minnesota; and the Winnebago Tribe of Nebraska (hereafter referred to as “The Consulted Tribes”).

Representatives of the Wahpekute Band of Dakota, a non-federally recognized group, were also involved in the consultation.

History and Description of the Remains

At an unknown date, human remains representing a minimum of five individuals were removed from an unknown location south of Potosi, in Grant County, WI. The human remains were collected from the bank of the Mississippi River by a high school student, and were donated to the Mississippi River Museum in Dubuque, IA, on June 12, 1975 (accession #75-83.2). These human remains were transferred to the Office of the State Archaeologist Bioarchaeology Program in 1995. A middle-aged to old adult and an old adult, both of indeterminate sex, are represented by the human remains. Also present are three individuals aged 0.5 to 2.5 years, 5 to 9 years, and 9 to 15 years (Burial Project 910). No known individuals were identified. No associated funerary objects are present.

At an unknown date, human remains representing a minimum of one individual were removed from an unspecified mound, possibly near Garner Lake in Richland County, WI. The human remains were given to Richard Herrmann by Herman Bieg. At an unknown date, the human remains were donated to the Ham House Museum in Dubuque, IA. In 1986, the human remains were transferred to the Office of the State Archaeologist Bioarchaeology Program. A female between the ages of 25 and 45 years is represented by the human remains. Cranial metrics and dental morphology support the identification of this individual as Native American (Burial Project 655). No known individual was identified. No associated funerary objects are present.

Osteological analyses indicate the human remains are Native American. However, these human remains cannot be dated or attributed to a particular archeological context in Wisconsin and cannot be affiliated with any present-day Indian Tribe or group.

Determinations Made by the Office of the State Archaeologist Bioarchaeology Program

Officials of the Office of the State Archaeologist Bioarchaeology Program have determined that:

• Pursuant to 25 U.S.C. 3001(9), the human remains described in this notice are Native American based on cranial metrics, dental morphology, and provenience.

• Pursuant to 25 U.S.C. 3001(9), the human remains described in this notice represent the physical remains of 6 individuals of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of The Consulted Tribes.

• Treaties, Acts of Congress, or Executive Orders, indicate that the land from which the Native American human remains were removed is the aboriginal land of The Consulted Tribes.

• Pursuant to 43 CFR 10.11(c)(1), the disposition of the human remains may be to The Consulted Tribes.

Additional Requestors and Disposition

Representatives of any Indian Tribe or Native Hawaiian organization not identified in this notice that wish to request transfer of control of these human remains should submit a written request with information in support of the request to Dr. Lara Noldner, Office of the State Archaeologist Bioarchaeology Program, University of Iowa, 700 S Clinton Street, Iowa City, IA 52242, telephone (319) 384-0740, email lara-noldner@uiowa.edu, by March 1, 2018. After that date, if no additional requestors have come forward, transfer of control of the human remains to The Consulted Tribes may proceed.

The Office of the State Archaeologist Bioarchaeology Program is responsible for notifying The Consulted Tribes that this notice has been published.

Dated: October 3, 2017.
Melanie O'Brien,
Manager, National NAGPRA Program.

Editor's Note: This document was received at the office of the Federal Register On January 25, 2018.

[FR Doc. 2018-01711 Filed 1-29-18; 8:45 am]

BILLING CODE 4312-52-P